ENVIRONMENTAL PROTECTION AGENCY

[ER-FRL-9015-3]

Environmental Impact Statements; Notice of Availability

Responsible Agency: Office of Federal Activities, General Information (202) 564-7146 or http://www.epa.gov/compliance/nepa/.

Weekly receipt of Environmental Impact Statements

Filed 05/27/2014 Through 05/30/2014

Pursuant to 40 CFR 1506.9.

Notice

Section 309(a) of the Clean Air Act requires that EPA make public its comments on EISs issued by other Federal agencies. EPA's comment letters on EISs are available at: http://www.epa.gov/compliance/nepa/eisdata.html.

EIS No. 20140162, Final EIS, FAA, TX, SpaceX Texas Launch Site, Review Period Ends: 07/07/2014, Contact: Stacey Zee 202-267-9305.

EIS No. 20140163, Draft EIS (Tiering), NASA, FL, Tier 2—Mars 2020 Mission, Comment Period Ends: 07/21/2014, Contact: George Tahu 202-258-0016.

EIS No. 20140164, Final Supplement, FHWA, NCDOT, NC, Monroe Connector/Bypass, Contact: George Hoops 919-707-6022, Under MAP-21 section 1319, FHWA has issued a single FSEIS and ROD. Therefore, the 30-day wait/review period under NEPA does not apply to this action.

EIS No. 20140165, Draft EIS, USACE, WA, Skagit River Flood Risk Management General Investigation, Comment Period Ends: 07/21/2014, Contact: Hannah Hadley 206-764-6950.

EIS No. 20140166, Draft EIS, USACE, WA, BP Cherry Point Dock, Comment Period Ends: 08/06/2014, Contact: Olivia Romano 206-764-6960.

Amended Notices

EIS No. 20130365, Draft EIS, NMFS, USFWS, BR, CA, Bay Delta Conservation Plan, Comment Period Ends: 07/29/2014, Contact: Ryan Wulff 916-930-3733.

Revision to the FR Notice Published 02/21/2014; Extending Comment Period from 06/13/2014 to 07/29/2014; The U.S. Department of the Interior's Bureau of Reclamation and Fish and Wildlife Service, the U.S. Department of Commerce's National Marine Fisheries Service are joint lead agencies for the above project.

Dated: May 3, 2014.
Cliff Rader,
Director, NEPA Compliance Division, Office of Federal Activities.

[FR Doc. 2014-13231 Filed 6-5-14; 8:45 am]

BILLING CODE 6560-50-P